FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 012208-003.

Title: Hoegh/Grimaldi Space Charter Agreement.

Parties: Hoegh Autoliners AS; Grimaldi Deep Sea S.p.A. and Grimaldi Euromed S.p.A. (acting as a single party).

Filing Party: Wayne R. Rohde, Esq.; Cozen O'Connor; 1627 I Street, NW; Suite 1100; Washington, DC 20006.

Synopsis: The Amendment revises the agreement to provide for the two-way chartering of space, rather than a one-way from Hoegh to Grimaldi.

Agreement No.: 012354.

Title: MOL/NMCC/WLS and Toko Line Space Charter Agreement.

Parties: Mitsui O.S.K. Lines, Ltd; Nissan Motor Car Carrier Co., Ltd.; World Logistics Service (U.S.A.), Inc.; Toko Kaiun Kaisha, Ltd.

Filing Party: Eric. C. Jeffrey, Esq.; Nixon Peabody LLP; 799 9th Street NW., Suite 500; Washington, DC 20001.

Synopsis: The agreement would authorize the parties to charter space to/from one another for the carriage of vehicles and other Ro/Ro cargo in the trade between the U.S. and all foreign countries.

Agreement No.: 012355.

Title: CMA CGM/SL Gulf Bridge Express Slot Charter Agreement.

Parties: CMA CGM, S.A. and Maersk Line A/S trading under the name of Sealand.

Filing Party: Draughn B. Arbona, Esq; CMA CGM (America) LLC; 5701 Lake Wright Drive; Norfolk, VA 23502.

Synopsis: The agreement authorizes CMA to charter space to Sealand in the trade between ports in Mexico and ports on the Gulf Coast of the United States on the one hand, and ports in Jamaica, Colombia, and Panama on the other hand.

Agreement No.: 012356.

Title: Matson/MELL Space Charter Agreement (Pacific Islands).

Parties: Matson Navigation Company, Inc. and Mariana Express Lines Pte. Ltd. (“MELL”).

Filing Party: Sloan White, Assistant General Counsel; Matson; 555 12th Street, Oakland, California 94607.

Synopsis: The agreement authorizes Matson to charter space to MELL in the trade between ports on the United States West Coast, Guam, Taiwan, the Philippines, and Hong Kong on the one hand, and ports in Chuuk, Pohnpei, Kosrae, Majuro, Palau, and Yap on the other hand.

By Order of the Federal Maritime Commission.
Dated: August 7, 2015.
Karen V. Gregory,
Secretary.

[FR Doc. 2015-19848 Filed 8-11-15; 8:45 am]

BILLING CODE 6731-AA-P